DEPARTMENT OF THE INTERIOR

Fish and Wildlife Service

Availability of an Environmental Assessment and Receipt of an Application for an Incidental Take Permit for the Coastal California Gnatcatcher Associated With Residential Development in the City of Fullerton, County of Orange, California

AGENCY: Fish and Wildlife Service, DOI.

ACTION: Notice of availability.

SUMMARY: Van Daele Development Corporation of Riverside, California (Van Daele), has applied to the Fish and Wildlife Service for an incidental take permit pursuant to section 10(a)(1)(B) of the Endangered Species Act, 1973, as amended. Van Daele seeks a permit for a period of 3 years that would authorize incidental take of a bird, the threatened coastal California gnatcatcher (Polioptila californica californica), associated with single-family residential development and occupancy of 35 acres of habitat within the City of Fullerton, County of Orange, California. The permit application includes a Habitat Conservation Plan and an Implementation Agreement, both of which are available for public review and comment. We also request comments on our Environmental Assessment for the proposed issuance of the incidental take permit. We provide this notice pursuant to section 10(a) of the Endangered Species Act and National Environmental Policy Act regulations (40 CFR 1506.6). All comments on the Environmental Assessment and permit application will become part of the administrative record and will be available to the public.

DATES: Written comments should be received on or before April 24, 2000.

ADDRESSES: You should address written comments to Mr. Ken Berg, Field Supervisor, Fish and Wildlife Service, 2730 Loker Avenue West, Carlsbad, California 92008. You also may send comments by facsimile to telephone (760) 431-9624.

FOR FURTHER INFORMATION CONTACT: Ms. Karen Evans, Division Chief, Los Angeles and Orange Counties, at the above address or call (760) 431-9440.

SUPPLEMENTARY INFORMATION:

Availability of Documents

You may obtain copies of the documents for review by calling our Carlsbad Fish and Wildlife Office at the above referenced telephone number. You also may make an appointment to review the documents during normal business hours at the above address.

Background

Section 9 of the Endangered Species Act and Service regulations prohibit the “take” of threatened or endangered wildlife. Take means to harass, harm, pursue, hunt, shoot, wound, kill, trap, capture or collect listed animal species, or attempt to engage in such conduct (16 USC 1538). Harm may include significant habitat modification that actually kills or injures wildlife by significantly impairing essential behavioral patterns, including breeding, feeding, and sheltering [50 CFR 17.3(c)]. The Service, however, may issue permits to take endangered and/or threatened wildlife incidental to, and not the purpose of, otherwise lawful activities. Regulations governing permits for endangered and threatened species are found at 50 CFR 17.22 and 17.32.

We propose to issue a permit to Van Daele authorizing take of the threatened coastal California gnatcatcher incidental to otherwise lawful construction, development, and occupancy of a residential subdivision. This project would directly impact the gnatcatcher by removing 4.65 acres of suitable habitat on the 35-acre parcel. The permit application includes a Habitat Conservation Plan and an Implementation Agreement that define the responsibilities of all parties under the Plan. Van Daele's Habitat Conservation Plan describes alternatives to the action and includes measures to minimize and mitigate impacts to the gnatcatcher.

To minimize impacts, Van Daele proposes in its Habitat Conservation Plan to flush coastal California gnatcatchers prior to grading operations and to monitor the site during clearing and grubbing operations (brushing). To mitigate for the permanent loss of occupied habitat due to the proposed subdivision development, Van Daele proposes to permanently protect coastal sage scrub habitat off site that has high long-term conservation value for the coastal California gnatcatcher. Van Daele has agreed with the Service to mitigate for the entire habitat area that supports coastal California gnatcatchers on site, which includes not only the coastal sage scrub but also the grassland ecotone (transition zone between habitat types) and the mulefat scrub on the property, for a combined total of 4.65 acres.

The mitigation plan contains four options that include acquisition or restoration, preservation, and management of high-quality habitat to support coastal California gnatcatchers (in order of priority);

1. Contribute funds to the purchase of lands within the Coal Canyon wildlife corridor.

2. Purchase coastal California gnatcatcher occupied habitat adjacent to, and for incorporation into, Chino Hills State Park.

3. Purchase land within the conditional sale area of the previously approved Shell Oil/Metropolitan Water District Habitat Conservation Plan, for incorporation into the Chino Hills State Park.

4. Restore 4.65 acres of a lemon orchard to coastal sage scrub vegetation within Chino Hills State Park. This lemon orchard is adjacent to occupied coastal California gnatcatcher habitat.

Based on lands valued at $37,000 per acre (as determined from the cost of land in the Shell Oil/Metropolitan Water District conditional sale area), Van Daele proposes to contribute a minimum of $172,050 in fulfillment of this Habitat Conservation Plan. The Service expects that this amount would be adequate to acquire between 3 and 4.65 acres of habitat, or to restore 4.65 ares of habitat. Van Daele reserves the right to propose other possible options at a later date. These options may be selected if they are acceptable to the Service and do not diminish the level or means of mitigation. We anticipate these options to be the acquisition of lands in another established reserve, should one become available prior to the issuance of Van Daele's grading permit and the use of the funds.

In our Environmental Assessment, we considered Van Daele's proposed project (Proposed Action Alternative) and three scenarios under the No Action Alternative. Under the Proposed Action Alternative, we would issue a permit under section 10(a)(1)(B) of the Endangered Species Act to Van Daele, authorizing incidental take of the threatened coastal California gnatcatcher during development and occupancy of the single-family residence tract on the 35-acre proposed project site. The project site was previously used for oil and gas operations. Prior to development, Van Daele would ensure that the site is fully remediated for hazardous wastes that might be present as a result of the approximately 19 wells that have operated at the site. The remediation would be fully compliant with requirements of all applicable State, County, and local agencies and regulations. Three oil wells would remain in operation concurrently with and adjacent to the proposed project.

Implementation of the proposed project would require several discretionary actions by the City of Fullerton including a Specific Plan amendment, zone change, and development agreement. Development of the proposed project would result in the conversion of approximately 35 acres of land from oilfield and gas operations to residential uses. Implementation would also require the marginal extension of Maple Avenue, which currently terminates at Rolling Hills Park, into the western portion of the project site.

Under the no Action Alternative, the Service would not issue an incidental take permit. Van Daele would either proceed with a reduced residential development, select an alternative site, or abandon the project.

Under this no take scenario, Van Daele could proceed with a residential development project within the same 35-acre parcel but with a reduced construction area configuration, so as to avoid physically disturbing the on-site coastal California gnatcatcher habitat. The residential development would be reduced by approximately 5 residences compared to the proposed project.

Under a second no take scenario, Van Daele could select a different site for a residential development project that does not support any listed species. Therefore, the project would not result in the incidental take of a listed species and issuance of an incidental take permit would not be required.

Under a third no take scenario, Van Daele could abandon the project. The site would remain relatively vacant with the exception of the continued operation of up to 19 oil wells. Under this scenario, there is no assurance that site remediation and abandonment of the approximately 16 wells formerly in use at the site would occur in a timely fashion. Hazardous residuals from prior site use could remain indefinitely in the subsurface soils.

We provide this notice pursuant to section 10(a) of the Endangered Species Act and Service regulations for implementing the National Environmental Policy Act of 1969 (40 CFR 1506.6). We will evaluate the permit application, Habitat Conservation Plan, Implementation Agreement, Environmental Assessment, associated documents, and comments submitted thereon to determine whether the application meets the requirements of section 10(a) of the Endangered Species Act. If we determine that the requirements are met, we will issue a permit for the incidental take of the coastal California gnatcatcher. We will make a decision on permit issuance no sooner than 30 days from the date of this notice.

Dated: March 20, 2000.
Elizabeth H. Stevens,
Deputy Manager, California/Nevada Operations Office, Fish and Wildlife Service, Sacramento, California.

[FR Doc. 00-7304 Filed 3-23-00; 8:45 am]

BILLING CODE 4310-55-M